FEDERAL MINE SAFETY AND HEALTH REVIEW COMMISSION

Sunshine Act Meeting

April 25, 2001.

TIME AND DATE: 10:00 a.m., Wednesday, May 2, 2001.

PLACE: Room 6005, 6th Floor, 1730 K Street, NW., Washington, DC.

STATUS: Closed in Part [Pursuant to 5 U.S.C. 552b(c)(10)].

MATTERS TO BE CONSIDERED: It was determined by a majority vote of the Commission that part of the Commission meeting to consider and act upon the following take place in closed session:

1. Eagle Energy, Inc., Docket No. WEVA 98-123 (Issues include whether substantial evidence supports the judge's finding that the operator violated the regulations governing preshift and onshift mine examinations by failing to observe unsupported kettle bottoms; whether the judge properly concluded that the violations found were the result of the operator's unwarrantable failure; whether the judge properly imposed penalties that were double in amounts from those initially assessed; and whether the judge's frequent questioning of witnesses improperly interfered with the operator's presentation of its case and reflected bias).

Any person attending the open portion of the meeting who requires special accessibility features and/or auxiliary aids, such as sign language interpreters, must inform the Commission in advance of those needs. Subject to 29 CFR 2706.150(a)(3) and 2706.160(d).

CONTACT PERSON FOR MORE INFO: Jean Ellen, (202) 653-5629/(202) 708-9300 for TDD Relay/1-800-877-8339 for toll free.

Jean H. Ellen,
Chief Docket Clerk.

[FR Doc. 01-10804 Filed 4-26-01; 12:32 pm]

BILLING CODE 6735-01-M